DEPARTMENT OF ENERGY

10 CFR Part 430

[Docket No. EERE-2012-BT-STD-0045]

RIN 1904-AD28

Energy Efficiency Program for Consumer Products: Energy Conservation Standards for Ceiling Fans: Availability of the Preliminary Technical Support Document

AGENCY: Office of Energy Efficiency and Renewable Energy, Department of Energy.

ACTION: Extension of public comment period.

SUMMARY: On January 13, 2016, the U.S. Department of Energy (DOE) published a notice of proposed rulemaking (NOPR) for ceiling fans energy conservation standards in the Federal Register. This document announces an extension of the public comment period for submitting comments on NOPR or any other aspect of the rulemaking for ceiling fans. The comment period is extended to April 14, 2016.

DATES: The comment period for the proposed rule published January 13, 2016 (81 FR 1687), is extended. DOE will accept comments, data, and information regarding this rulemaking received no later than April 14, 2016.

ADDRESSES: Interested persons may submit comments, identified by docket number EERE-2011-BT-STD-0045 and/or Regulation Identification Number (RIN) 1904-AD28, by any of the following methods:

• Federal eRulemaking Portal: www.regulations.gov. Follow the instructions for submitting comments.

• Email: CeilingFan2012STD0045@ee.doe.gov. Include the docket number EERE-2011-BT-STD-0045 and/or RIN 1904-AD28 in the subject line of the message.

• Mail: Ms. Brenda Edwards, U.S. Department of Energy, Building Technologies Program, Mailstop EE-5B, 1000 Independence Avenue SW., Washington, DC 20585-0121. If possible, please submit all items on a compact disc (CD), in which case it is not necessary to include printed copies. [Please note that comments and CDs sent by mail are often delayed and may be damaged by mail screening processes.]

• Hand Delivery/Courier: Ms. Brenda Edwards, U.S. Department of Energy, Building Technologies Program, 950 L'Enfant Plaza SW., Suite 600, Washington, DC 20024. Telephone (202) 586-2945. If possible, please submit all items on CD, in which case it is not necessary to include printed copies.

Docket: The docket is available for review at www.regulations.gov, including Federal Register notices, framework documents, public meeting attendee lists and transcripts, comments, and other supporting documents/materials. All documents in the docket are listed in the www.regulations.gov index. However, not all documents listed in the index may be publicly available, such as information that is exempt from public disclosure.

The rulemaking Web page can be found at: https://www1.eere.energy.gov/buildings/appliance_standards/standards.aspx?productid=5. This Web page contains a link to the docket for this notice on the regulation.gov site. The www.regulations.gov Web page contains instructions on how to access all documents in the docket, including public comments.

FOR FURTHER INFORMATION CONTACT:

Ms. Lucy deButts, U.S. Department of Energy, Office of Energy Efficiency and Renewable Energy, Building Technologies, EE-5B, 1000 Independence Avenue SW., Washington, DC 20585-0121. Telephone: (202)-287-1604. Email: ceiling_fans@ee.doe.gov.

In the Office of the General Counsel, contact Ms. Elizabeth Kohl, U.S. Department of Energy, Office of the General Counsel, GC-33, 1000 Independence Avenue SW., Washington, DC 20585-0121. Telephone: (202) 586-7796. Email: Elizabeth.Kohl@hq.doe.gov.

SUPPLEMENTARY INFORMATION: On January 13, 2016, the U.S. Department of Energy (DOE) published a notice of proposed rulemaking (NOPR) for ceiling fans energy conservation standards in the Federal Register to make available and invite comments on the analysis for ceiling fans energy conservation standards. 81 FR 1687. The notice provided for the written submission of comments by March 14, 2016, and oral comments were also accepted at a public meeting held on February 3, 2016. At the public meeting, various stakeholders have requested an extension of the comment period to consider the NOPR, technical support documents and public meeting presentation, and to prepare and submit comments accordingly. On March 2, American Lighting Association sent a written request for 30-day comment period extension due additional testing manufacturers have to conduct to review their existing products against the ceiling fan test procedures SNOPR, published in the Federal Register on June 3, 2015, and the conservation standards NOPR.

DOE has determined that an extension of the public comment period is appropriate based on the foregoing reason. DOE will consider any comments received by midnight of April 14, 2016, and deems any comments received by that time to be timely submitted.

Issued in Washington, DC, on March 10, 2016.
Kathleen B. Hogan,
Deputy Assistant Secretary for Energy Efficiency, Energy Efficiency and Renewable Energy.

[FR Doc. 2016-05824 Filed 3-14-16; 8:45 am]

BILLING CODE 6450-01-P